DEPARTMENT OF TRANSPORTATION

Federal Motor Carrier Safety Administration

[Docket No. FMCSA-2022-0154]

Agency Information Collection Activities; Renewal of an Approved Information Collection: Commercial Motor Vehicle Marking Requirements

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval. This ICR will enable FMCSA to document the burden associated with the marking regulations, “Marking of Self-Propelled CMVs and Intermodal Equipment.” These regulations require marking of vehicles and intermodal equipment by motor carriers, freight forwarders, and intermodal equipment providers (IEPs) engaging in interstate transportation and motor carriers that transport hazardous materials (HM) in intrastate transportation.

DATES: Comments on this notice must be received on or before November 21, 2022.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Stacy Ropp, Compliance Division, DOT, FMCSA, West Building, 6th Floor, 1200 New Jersey Avenue SE, Washington, DC 20590-0001; 609-661-2062; Stacy.Ropp@dot.gov.

SUPPLEMENTARY INFORMATION:

Title: Commercial Motor Vehicle Marking Requirements.

OMB Control Number: 2126-0054.

Type of Request: Renewal of a currently approved ICR.

Respondents: Freight-carrying commercial motor carriers, passenger-carrying commercial motor carriers, and intermodal equipment providers.

Estimated Number of Respondents: 895,485 total respondents (861,643 freight-carrying motor carriers; 17,167 intrastate hazardous materials transporting motor carriers; 15,114 passenger-carrying motor carriers; and 1,561 IEPs).

Estimated Time per Response: 26 minutes [12 minutes to affix USDOT Number + 14 minutes for affixing a carrier's name].

Expiration Date: October 31, 2022.

Frequency of Response: On occasion.

Estimated Total Annual Burden: 7,196,938 total hours (4,907,276 hours spent by freight-carrying motor carriers; 239,666 hours spent by intrastate hazardous materials transporting motor carriers; 47,645 hours spent by passenger-carrying motor carriers; and 2,002,351 hours spent by IEPs). All of these entities spent these hours marking their commercial motor vehicles (CMVs) with a USDOT number and motor carrier information.

Background:

The Secretary of Transportation (Secretary) is authorized to require marking of vehicles and intermodal equipment by motor carriers, freight forwarders and IEPs engaging in interstate transportation based on the authority of 49 U.S.C. 31133(a)(8) and 31133(a)(10). The Secretary has delegated authority pertaining to the marking of CMVs pursuant to FMCSA at 49 CFR 1.87(f). The Agency's regulation governing the marking of CMVs is codified at 49 CFR 390.21.

Vehicle marking requirements are intended to ensure that FMCSA, the National Transportation Safety Board, and State safety officials are able to identify motor carriers and correctly assign responsibility for regulatory violations during inspections, investigations, compliance reviews, and crash studies. These marking requirements will also provide the public with beneficial information that could assist in identifying carriers for the purposes of commerce, complaints or emergency notification. The marking requirements apply to motor carriers, freight forwarders, and IEPs engaging in interstate transportation and motor carriers that transport HM in intrastate transportation. The Agency does not require a specific method of marking as long as the marking complies with FMCSA's regulations. The increase of 6,023,243 estimated annual burden hours (7,196,938 proposed estimated annual burden hours −1,173,695 approved estimated annual burden hours) is due to adjustments in respondent and response estimates and updated information regarding industry population for all four carrier/entity types.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2022-22784 Filed 10-19-22; 8:45 am]

BILLING CODE 4910-EX-P